DEPARTMENT OF JUSTICE

[OMB Number 1110-0056]

Agency Information Collection Activities; Proposed eCollection eComments Requested; Extension of a Previously Approved Collection

AGENCY: Department of Justice, Federal Bureau of Investigation, Critical Incident Response Group, Investigative and Operational Support Section, National Center for the Analysis of Violent Crime (NCAVC).

ACTION: 30-day notice.

SUMMARY: The Department of Justice, Federal Bureau of Investigation, Critical Incident Response Group has submitted the following information collection request to the Office of Management and Budget (OMB) for review and clearance in accordance with established review procedures of the Paperwork Reduction Act of 1995. This proposed information collection was previously published in the Federal Register allowing for a 60 day comment period.

DATES: Comments are encouraged and will be accepted for an additional 30 days until February 23, 2017.

FOR FURTHER INFORMATION CONTACT: If you have additional comments especially on the estimated public burden or associated response time, suggestions, or need a copy of the proposed information collection instrument with instructions or additional information, please contact Lesa Marcolini, Federal Bureau of Investigation, Critical Incident Response Group, FBI Academy, Quantico, Virginia 22135.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: FBI-NCAVC Satisfaction Survey.

3. The agency form number, if any, and the applicable component of the Department sponsoring the collection: There is no agency form number applicable to this survey.

4. Affected public who will be asked or required to respond, as well as a brief abstract:

Primary: Federal, state, local, and tribal government law enforcement agencies to which the NCAVC has provided investigative assistance.

Abstract: The mission of the National Center for the Analysis of Violent Crime (NCAVC) combines investigative and operational support functions, research, and training in order to provide assistance, without charge, to law enforcement agencies investigating unusual or repetitive violent crimes. The NCAVC also provides support through expertise and consultation in non-violent matters such as national security, corruption, and white-collar crime investigations.

5. An estimate of the total number of respondents and the amount of time estimated for an average respondent to respond: It is estimated that 100 respondents per calendar year will be contacted to complete a survey consisting of 11 questions. An approximate non-response rate of 50% is anticipated. It is estimated that a burden of approximately three to five minutes, or .05 to .08 hours, will be cast upon each respondent to complete the survey, with a total estimate of five to 8.3 hours in a calendar year for all respondents combined, if all respondents complete a survey. If the expected non-response rate of 50% holds true, then the combined burden estimate drops to approximately 2.5 to 4.2 hours per calendar year. The NCAVC estimates little to no variability within this time estimate based upon on individualized data retrieval systems, availability of requested data, and other variables, because this survey is intended to assess customer satisfaction rather than generate empirical data.

6. An estimate of the total public burden (in hours) associated with the collection: 20-32 annual burden hours.

If additional information is required contact: Melody Braswell, Department Clearance Officer, United States Department of Justice, Justice Management Division, Policy and Planning Staff, Two Constitution Square, 145 N Street NE., 3E.405B, Washington, DC 20530.

Dated: September 30, 2016.
Melody Braswell,
Department Clearance Officer for PRA, U.S. Department of Justice.

[FR Doc. 2017-01495 Filed 1-23-17; 8:45 am]

BILLING CODE 4410-02-P